NATIONAL TRANSPORTATION SAFETY BOARD

Sunshine Act Meeting

TIME AND DATE: 9:30 a.m. Wednesday, January 23, 2008.

PLACE: NTSB Conference Center, 429 L'Enfant Plaza SW., Washington, DC 20594.

STATUS: The one item is open to the public.

MATTER TO BE CONSIDERED:

7968—Railroad Accident Briefs and Safety Recommendation Letter—(1) Washington Metropolitan Area Transit Authority Train Strikes Wayside Worker Near the Dupont Circle Station, Washington, DC., May 14, 2006 (DCA-06-FR-005), and (2) WMATA Train Strikes Wayside Workers Near the Eisenhower Avenue Station, Alexandria, Virginia, November 30, 2006.

NEWS MEDIA CONTACT: Telephone: (202) 314-6100.

Individuals requesting specific accommodations should contact Chris Bisett at (202) 314-6305 by Friday, January 18, 2008.

The public may view the meeting via a live or archived webcast by accessing a link under “News & Events” on the NTSB home page at http://www.ntsb.gov.

FOR FURTHER INFORMATION CONTACT: Vicky D'Onofrio, (202) 314-6410.

Dated: January 11, 2008.
Vicky D'Onofrio,
Federal Register Liaison Officer.

[FR Doc. 08-120 Filed 1-11-08; 1:35 pm]

BILLING CODE 7533-01-M